DEPARTMENT OF STATE

22 CFR Part 120

[Public Notice 4505]

RIN 1400-AB86

Bureau of Political-Military Affairs; Amendment to the International Traffic in Arms Regulations

AGENCY: Department of State.

ACTION: Final rule.

SUMMARY: This rule amends the International Traffic in Arms Regulations (ITAR) implementing section 38 of the Arms Export Control Act (AECA) (22 U.S.C. 2778), which governs the import and export of defense articles and defense services. The rule reflects the change in the Directorate of Defense Trade Controls whereby two individuals will now hold the separate positions of Deputy Assistant Secretary of State for Defense Trade Controls and Managing Director of Defense Trade Controls.

EFFECTIVE DATE: August 11, 2003.

FOR FURTHER INFORMATION CONTACT: Robert W. Maggi, Managing Director of Defense Trade Controls, Bureau of Political-Military Affairs, Department of State (202) 663-2700 or Michael T. Dixon, Office of Defense Trade Controls Management (202) 663-2798, FAX (202) 261-8199.

SUPPLEMENTARY INFORMATION: Effective August 11, 2003, the Department of State will have two individuals hold the separate positions of Deputy Assistant Secretary for Defense Trade Controls (DAS—Defense Trade Controls) and Managing Director of Defense Trade Controls (MD—Defense Trade Controls). Section 120.1(b)(2) is amended to reflect this change.

This amendment involves a foreign affairs function of the United States and, therefore, is not subject to the procedures required by 5 U.S.C. 553 and 554. It is exempt from review under Executive Order 12866 but has been reviewed internally by the Department to ensure consistency with the purposes thereof. This rule does not require analysis under the Regulatory Flexibility Act or the Unfunded Mandates Reform Act. It has been found not to be a major rule within the meaning of the Small Business Regulatory Enforcement Act of 1996. It will not have substantial direct effects on the States, the relationship between the National Government and the States, or on the distribution of power and responsibilities among the various levels of government. Therefore, it is determined that this rule does not have sufficient federalism implications to warrant application of the consultation provisions of Executive Orders 12372 and 13123.

List of Subjects in 22 CFR Part 120

Arms and munitions, Classified information, Exports.

Accordingly, for the reasons set forth above, title 22, chapter I, subchapter M, part 120, is being amended as follows:

PART 120—PURPOSE AND DEFINITIONS

1. The authority citation for Part 120 continues to read as follows:

Authority: Secs. 2, 38, and 71, Pub. L. 90-629, 90 Stat. 744 (22 U.S.C. 2752, 2778, 2797); 22 U.S.C. 2794; E.O. 11958, 42 FR 4311, 3 CFR, 1977 Comp. p. 79; 22 U.S.C. 2658; Pub. L. 105-261, 112 Stat. 1920.

2. Section 120.1(b)(2) is revised to read as follows:

§ 120.1 General authorities and eligibility.

* * * * *

(b) * * *

(1) * * *

(2) In the Bureau of Political-Military Affairs, there is a Deputy Assistant Secretary for Defense Trade Controls (DAS—Defense Trade Controls) and a Managing Director of Defense Trade Controls (MD—Defense Trade Controls). The DAS—Defense Trade Controls and the MD—Defense Trade Controls are responsible for exercising the authorities conferred under this subchapter. The DAS—Defense Trade Controls is responsible for oversight of the defense trade controls function. The MD—Defense Trade Controls is responsible for the Directorate of Defense Trade Controls, which oversees the subordinate offices described in paragraph (b)(2)(i) of this section.

* * * * *

Dated: September 12, 2003.
John R. Bolton,
Under Secretary, Arms Control and International Security, Department of State.

[FR Doc. 03-25169 Filed 10-2-03; 8:45 am]

BILLING CODE 4710-25-P